DEPARTMENT OF THE INTERIOR

Bureau of Indian Affairs

[201A2100DD/AAKC001030/A0A501010.999900 253G; OMB Control Number 1076-0176]

Agency Information Collection Activities; Submission to the Office of Management and Budget for Review and Approval; IDEIA Part B and C Child Count

AGENCY: Bureau of Indian Affairs, Interior.

ACTION: Notice of information collection; request for comment.

SUMMARY: In accordance with the Paperwork Reduction Act of 1995, we, the Bureau of Indian Affairs (BIA) are proposing to renew an information collection.

DATES: Interested persons are invited to submit comments on or before August 26, 2020.

ADDRESSES: Send written comments on this information collection request (ICR) to the Office of Management and Budget's Desk Officer for the Department of the Interior by email at OIRA_Submission@omb.eop.gov; or via facsimile to (202) 395-5806. Please provide a copy of your comments to Ms. Sue Bement, Office of Sovereignty in Indian Education, 2001 Killebrew Drive—Suite 122, Bloomington, Minnesota 55425; or by email to sue.bement@bie.edu. Please reference OMB Control Number 1076-0176 in the subject line of your comments.

FOR FURTHER INFORMATION CONTACT: To request additional information about this ICR, contact Ms. Sue Bement by email at sue.bement@bie.edu or by telephone at (952) 851-5423. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on March 30, 2020 (85 FR 17596). No comments were received.

We are soliciting comments on the proposed ICR that is described below. We are especially interested in public comment addressing the following issues: (1) Is the collection necessary to the proper functions of the BIE; (2) will this information be processed and used in a timely manner; (3) is the estimate of burden accurate; (4) how might the BIE enhance the quality, utility, and clarity of the information to be collected; and (5) how might the BIE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Indian Tribes and Tribal organizations must submit information to the BIE if they are served by elementary or secondary schools for Indian children that, through Department of the Interior, receive allocations of funding under the IDEIA for the coordination of assistance for Indian children 0 to 5 years of age with disabilities on reservations. The information must be provided on two forms. The Part B form addresses Indian children 3 to 5 years of age on reservations served by Bureau-funded schools. The Part C form addresses Indian children up to 3 years of age on reservations served by Bureau-funded schools. The information required by the forms includes counts of children as of a certain date each year.

Title of Collection: IDEIA Part B and Part C Child Count.

OMB Control Number: 1076-0176.

Form Number: N/A.

Type of Review: Extension of a currently approved collection.

Respondents/Affected Public: Indian Tribes and Tribal organizations.

Total Estimated Number of Annual Respondents: 118.

Total Estimated Number of Annual Responses: 118.

Estimated Completion Time per Response: 20 hours per form.

Total Estimated Number of Annual Burden Hours: 2,360 hours.

Respondent's Obligation: Required to Obtain a Benefit.

Frequency of Collection: Twice (Once per year for each form).

Total Estimated Annual Nonhour Burden Cost: $0.

An agency may not conduct or sponsor and a person is not required to respond to a collection of information unless it displays a currently valid OMB control number.

The authority for this action is the Paperwork Reduction Act of 1995 (44 U.S.C. 3501 et seq.).

Elizabeth K. Appel,
Director, Office of Regulatory Affairs and Collaborative Action—Indian Affairs.

[FR Doc. 2020-16146 Filed 7-24-20; 8:45 am]

BILLING CODE 4337-15-P